ENVIRONMENTAL PROTECTION AGENCY

40 CFR Part 60

Standards of Performance for New Stationary Sources; CFR Correction

Correction

In rule document 2016-15707 beginning on page 42542 in the issue of Thursday, June 30th, 2016, make the following correction:

On page 42542, in the third column, below the 44th line, remove the photographed text and insert, “3. Reinstate the symbol E, in the following places:”.

[FR Doc. C1-2016-15707 Filed 7-5-16; 8:45 am]

BILLING CODE 1505-01-D